DEPARTMENT OF COMMERCE

Minority Business Development Agency

[Docket No: 040628195-4195-01]

White House Initiative on Asian Americans and Pacific Islanders, President's Advisory Commission on Asian Americans and Pacific Islanders

AGENCY: Minority Business Development Agency, Department of Commerce.

ACTION: Notice of meeting.

SUMMARY: The Minority Business Development Agency (MBDA) publishes this notice to announce that the President's Advisory Commission on Asian Americans and Pacific Islanders (Commission) will be holding a public meeting to seek testimonies from individuals and organizations on ways to provide equal economic opportunities for full participation of Asian American and Pacific Islander businesses in our free market economy where they may be underserved.

DATES: The public meeting will be held on Tuesday, July 20, 2004; 1 p.m.-5 p.m. e.s.t. For members of the public who are interested in addressing the Commission, please submit your written requests by July 16, 2004. Requests for special assistance, such as sign language interpretation or other reasonable accommodations, should be submitted to Mr. Erik Wang (See FOR FURTHER INFORMATION CONTACT) no later than July 9, 2004.

ADDRESSES: The public meeting will be held at: The Enterprise Center, 4548 Market Street, Philadelphia, Pennsylvania 19139. For members of the public who are interested in addressing the Commission, please submit your request to Mr. Erik Wang, Office of the White House Initiative on AAPIs, Herbert C Hoover Building, 1401 Constitution Avenue, NW., Room 5092, Washington, DC 20230, or by fax to (202) 219-8809.

FOR FURTHER INFORMATION CONTACT: For additional information about the Commission or the public meeting, please contact: Mr. Eddy Badrina or Mr. Erik Wang, Office of the White House Initiative on AAPIs, Herbert C Hoover Building, 1401 Constitution Avenue, NW., Room 5092, Washington, DC 20230, Telephone (202) 482-3949.

SUPPLEMENTARY INFORMATION: In accordance with section 10(a)(2) of the Federal Advisory Committee Act (Pub. L. 92-463), announcement is made of the Commission's intent to conduct a public meeting on July 20, 2004. Agenda items will include, but will not be limited to: testimony from community organizations and individuals; testimony from federal agencies; administrative tasks; upcoming events; and comments from the public.

The purpose of the Commission is to advise and make recommendations to the President on ways to provide equal economic opportunities for full participation of Asian American and Pacific Islander businesses in our free market economy where they may be underserved and thus, improving the quality of life for approximately 14.5 million Asian Americans and Pacific Islanders living in the United States and the U.S.-associated Pacific Island jurisdictions, especially those who are most underserved.

Requests to address the Commission must be made in writing and should include the name, address, telephone number and business or professional affiliation of the interested party. Individuals or groups addressing similar issues are encouraged to combine comments and make their request to address the Commission through a single representative. The allocation of time for remarks will be adjusted to accommodate the level of expressed interest. Written requests must be mailed or faxed to The Office of the White House Initiative on AAPIs by July 16, 2004 (See ADDRESSES). Anyone who requires special assistance, such as sign language interpretation or other reasonable accommodations, should contact Mr. Erik Wang no later than July 9, 2004 (See FOR FURTHER INFORMATION CONTACT). This meeting is open to the public.

Edith McCloud,
Associate Director for Management.

[FR Doc. 04-15013 Filed 7-1-04; 8:45 am]

BILLING CODE 3510-21-P